DEPARTMENT OF DEFENSE

Charter Renewal of Department of Defense Federal Advisory Committees

AGENCY: Department of Defense.

ACTION: Renewal of Federal Advisory Committee.

SUMMARY: The Department of Defense (DoD) is publishing this notice to announce that it is renewing the charter for the U.S. Strategic Command Strategic Advisory Group (“the Group”).

FOR FURTHER INFORMATION CONTACT: Jim Freeman, Advisory Committee Management Officer for the Department of Defense, 703-692-5952.

SUPPLEMENTARY INFORMATION: The Group's charter is being renewed in accordance with the Federal Advisory Committee Act (FACA) of 1972 (5 U.S.C., Appendix, as amended) and 41 CFR 102-3.50(d). The Group's charter and contact information for the Group's Designated Federal Officer (DFO) can be found at http://www.facadatabase.gov/.

The Group provides the Secretary of Defense and the Deputy Secretary of Defense, through the Chairman of the Joint Chiefs of Staff and the Commander of the United States Strategic Command (USSTRATCOM), independent advice and recommendations on: Scientific, technical, intelligence, and policy-related matters of interest to the Joint Chiefs of Staff and the USSTRATCOM concerning the development and implementation of the Nation's strategic war plans; enhancement in USSTRATCOM's mission are responsibilities; and other matters relating to the Nation's strategic forces, as requested by the Chairman of the Joint Chiefs of Staff or the Commander, USSTRATCOM.

The Group is composed of no more than 20 members who are eminent authorities in the fields of strategic policy formulation; nuclear weapon design; national command, control, communications, intelligence, and information operations; or other important aspects of the Nation's strategic forces. All members of the Group are appointed to provide advice on behalf of the Government on the basis of their best judgment without representing any particular point of view and in a manner that is free from conflict of interest. Except for reimbursement of official Group-related travel and per diem, Group members serve without compensation.

The public or interested organizations may submit written statements to the Group membership about the Group's mission and functions. Written statements may be submitted at any time or in response to the stated agenda of planned meeting of the Group. All written statements shall be submitted to the DFO for the Group, and this individual will ensure that the written statements are provided to the membership for their consideration.

Dated: May 14, 2018.
Shelly E. Finke,
Alternate OSD Federal Register, Liaison Officer, Department of Defense.

[FR Doc. 2018-10520 Filed 5-16-18; 8:45 am]

BILLING CODE 5001-06-P